NATIONAL FOUNDATION ON THE ARTS AND THE HUMANITIES

Meetings of Humanities Panel

AGENCY: National Endowment for the Humanities.

ACTION: Notice of Meetings.

SUMMARY: Pursuant to section 10(a)(2) of the Federal Advisory Committee Act (5 U.S.C. App.), notice is hereby given that 11 meetings of the Humanities Panel will be held during November 2012 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See SUPPLEMENTARY INFORMATION section for meeting room numbers.

FOR FURTHER INFORMATION CONTACT: Lisette Voyatzis, Committee Management Officer, 1100 Pennsylvania Ave. NW., Room, 529, Washington, DC 20506, or call (202) 606-8322. Hearing-impaired individuals are advised that information on this matter may be obtained by contacting the National Endowment for the Humanities' TDD terminal at (202) 606-8282.

SUPPLEMENTARY INFORMATION:

Meetings

1. Date: November 01, 2012

Time: 8:30 a.m. to 5:00 p.m.

Room: 421

This meeting will discuss applications for the America's Media Makers Production grant program on the subject of American Studies, submitted to the Division of Public Programs.

2. Date: November 1, 2012

Time: 8:30 a.m. to 5:00 p.m.

Room: 415

This meeting will discuss applications for the Humanities Collections and Reference Resources grant program on the subject of U.S. History and Culture, submitted to the Division of Preservation and Access.

3. Date: November 5, 2012

Time: 8:30 a.m. to 5:00 p.m.

Room: 421

This meeting will discuss applications for the America's Historical & Cultural Organizations Implementation grant program on the subject of U.S. History and the West, submitted to the Division of Public Programs.

4. Date: November 7, 2012

Time: 8:30 a.m. to 5:00 p.m.

Room: 421

This meeting will discuss applications for the America's Historical & Cultural Organizations Implementation grant program on the subject of recent U.S. History, submitted to the Division of Public Programs.

5. Date: November 07, 2012

Time: 8:30 a.m. to 5:00 p.m.

Room: 415

This meeting will discuss applications for the Humanities Collections and Reference Resources grant program on the subject of History of Science and Technology, submitted to the Division of Preservation and Access.

6. Date: November 8, 2012

Time: 8:30 a.m. to 5:00 p.m.

Room: 415

This meeting will discuss applications for the Humanities Collections and Reference Resources grant program on the subject of U.S. History and Culture, submitted to the Division of Preservation and Access.

7. Date: November 8, 2012

Time: 8:30 a.m. to 5:00 p.m.

Room: Conference Call

This meeting will discuss applications for the America's Media Makers Production grant program, submitted to the Division of Public Programs.

8. Date: November 28, 2012

Time: 8:30 a.m. to 5:00 p.m.

Room: 415

This meeting will discuss applications for the Humanities Collections and Reference Resources grant program on the subject of U.S. History and Culture, submitted to the Division of Preservation and Access.

9. Date: November 28, 2012

Time: 8:30 a.m. to 5:00 p.m.

Room: 402

This meeting will discuss applications for the Digital Humanities Start-Up Grants grant program on the subject of New Media, submitted to the Office of Digital Humanities.

10. Date: November 29, 2012

Time: 8:30 a.m. to 5:00 p.m.

Room: 402

This meeting will discuss applications for the Digital Humanities Start-Up Grants grant program on the subject of Scholarly Communications, submitted to the Office of Digital Humanities.

11. Date: November 30, 2012

Time: 8:30 a.m. to 5:00 p.m.

Room: 415

This meeting will discuss applications for the Humanities Collections and Reference Resources grant program on the subject of Art History, submitted to the Division of Preservation and Access.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: October 10, 2012.
Lisette Voyatzis,
Committee Management Officer.

[FR Doc. 2012-25284 Filed 10-12-12; 8:45 am]

BILLING CODE 7536-01-P